ENVIRONMENTAL PROTECTION AGENCY

[FRL-6968-2]

Agency Information Collection Activities: Submission for OMB Review; Comment Request, Hazardous Air Pollutant Emission Standards for the Synthetic Organic Chemical Industry (HON Rule)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NESHAP subparts F, G, H, and I, the Hazardous Organic NESHAP (HON), OMB Control Number 2060-0282, expires April 30, 2001. The ICR describes the nature of the information collection and its expected cost and burden; where appropriate it includes the actual data collection instrument.

DATES: Comments must be submitted on or before May 24, 2001.

ADDRESSES: Send comments, referencing EPA ICR No. 1414.04 and OMB Control No. 2060-0282, to the following addresses: Sandy Farmer, U.S. Environmental Protection Agency, Collection Strategies Division (Mail Code 2822), 1200 Pennsylvania Avenue, N.W., Washington, DC 20460-0001; and to Office of Information and Regulatory Affairs, Office of Management and Budget (OMB), Attention: Desk Officer for EPA, 725 17th Street, N.W., Washington, DC 20503

FOR FURTHER INFORMATION CONTACT: For a copy of the ICR contact Sandy Farmer at EPA by phone at (202) 260-2740, by E-Mail at Farmer.Sandy@epamail.epa.gov or download off the Internet at http://www.epa.gov/icr and refer to EPA ICR No. 1414.04. For technical questions about the ICR contact Marcia Mia at 202-564-7042.

SUPPLEMENTARY INFORMATION: Title: NESHAP subparts F, G, H, and I, the Hazardous Organic NESHAP (HON), OMB number 2060-0282, expires April 30, 2001. This is a request for an extension of a currently approved collection.

Abstract: This ICR contains recordkeeping and reporting requirements that are mandatory for compliance with 40 CFR 63.100, 63.110, 63.160, and 63.190; subparts F, G, H, and I, respectively, hazardous air pollutant emissions from process vents, storage vessels, transfer racks, wastewater and equipment leaks. This information is used by the Agency to identify sources subject to the standards and to insure that the maximum achievable control is being properly applied. The standards require periodic recordkeeping to document process information relating to the source's ability to comply with the standards. Respondents are owners or operators of processes in SOCMI industries, styrene-butadiene rubber production, polybutadiene production, chloride production, pesticide production, chlorinated hydrocarbon use in production of chemicals, pharmaceutical production, and miscellaneous butadiene use.

Section 112 of the Clean Air Act, as amended in 1990, requires that EPA establish standards to limit emissions of hazardous air pollutants (HAP's) from stationary sources. The sources subject to the proposed rule can potentially emit 149 of the 189 HAP's listed in section 112. In the Administrator's judgment, hazardous air pollutant (HAP) emissions in the synthetic organic chemical industry and other negotiated industries cause or contribute to air pollution that may reasonably be anticipated to endanger public health or welfare. Therefore, NESHAPs have been promulgated for this source category as required under section 112 of the Clean Air Act.

Owners or operators of the CMPU's described must make the following one-time-only reports. These notifications, reports and records are required, in general, of all sources subject to the MACT standards. Notification of the start date of construction or reconstruction; notification of the anticipated and actual dates of startup; notification of any physical or operational change to an existing facility. In addition, subpart G requires respondents to submit five types of reports: (1) Initial Notification, (2) Implementation Plan, (3) Notification of Compliance Status, (4) Periodic Reports, and (5) several event triggered reports. The collection of this information is mandatory under section 114 of the CAA.

An Agency may not conduct or sponsor, and a person is not required to respond to, a collection of information unless it displays a currently valid OMB control number. The OMB control numbers for EPA's regulations are listed in 40 CFR part 9. The Federal Register document required under 5 CFR 1320.8(d), soliciting comments on this ICR was published on February 1, 2001 (66 FR 8588); no comments were received.

Burden Statement: The annual public reporting and recordkeeping burden for this collection of information is estimated to average 4,760 hours per response for existing sources and 9,296 hours per response for new sources. Burden means the total time, effort, or financial resources expended by persons to generate, maintain, retain, or disclose or provide information to or for a Federal agency. This includes the time needed to review instructions; develop, acquire, install, and use technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Synthetic Organic Chemical Manufacturing Industry

Estimated Number of Responses: 490.

Frequency of Response: Episodic, Quarterly and Semi-annually.

Estimated Total Annual Hour Burden: 1,343,755 hours.

Estimated Total Annualized Capital, O&M Cost Burden: $67,398,725.

Send comments on the Agency's need for this information, the accuracy of the provided burden estimates, and any suggested methods for minimizing respondent burden, including through the use of automated collection techniques to the following addresses. Please refer to ICR No. 1414.04 and OMB control number 2060-0282 in any correspondence.

Dated: April 10, 2001.
Oscar Morales,
Director, Collection Strategies Division.

[FR Doc. 01-10120 Filed 4-23-01; 8:45 am]

BILLING CODE 6560-50-P